DEPARTMENT OF COMMERCE

National Oceanic and Atmospheric Administration

[RTID 0648-XC911]

Caribbean Fishery Management Council; Public Meetings

AGENCY: National Marine Fisheries Service (NMFS), National Oceanic and Atmospheric Administration (NOAA), Commerce.

ACTION: Notice of hybrid meetings.

SUMMARY: The Caribbean Fishery Management Council's (Council) Ecosystem-Based Fishery Management Technical Advisory Panel (EBFM TAP) will hold hybrid meetings to address the items on the tentative agenda included in the SUPPLEMENTARY INFORMATION.

DATES: The EBFM TAP hybrid meetings will be held on Wednesday, May 3rd, 2023, from 9 a.m. to 5 p.m. (AST), May 4th, 2023, from 9 a.m. to 5 p.m. (AST), and Friday May 5th, 2023, from 9 a.m. to 12 p.m. (AST).

ADDRESSES: The meetings will be held at Courtyard Isla Verde Beach Resort, 7012 Boca de Cangrejos Avenue, Carolina, Puerto Rico.

The hybrid meetings can be joined as follows:

Join ZOOM EBFM TAP Meetings: https://us02web.zoom.us/j/89615647315?pwd=ODVMU0liUi9PekpEMnE2aE5aNFFBUT09.

Meeting ID: 896 1564 7315.

Passcode: 303561.

One tap mobile

+13602095623,,89615647315#,,,,*303561# US

+13863475053,,89615647315#,,,,*303561# US

Dial by your location

+1 646 558 8656 US (New York)

+1 301 715 8592 US (Washington DC)

+1 305 224 1968 US

+1 309 205 3325 US

+1 939 945 0244 Puerto Rico

+1 787 945 1488 Puerto Rico

+1 787 966 7727 Puerto Rico

Meeting ID: 896 1564 7315.

Passcode: 303561.

Find your local number: https://us02web.zoom.us/u/kejhDuUaUC.

In case of problems with ZOOM please join the hybrid meetings via GoToMeeting:

Please join my meeting from your computer, tablet or smartphone. https://meet.goto.com/307547125.

You can also dial in using your phone.

(For supported devices, tap a one-touch number below to join instantly.)

United States: +1 (571) 317-3116.

—One-touch: tel:+15713173116,,307547125#.

Access Code: 307-547-125.

More phone numbers: (For supported devices, tap a one-touch number below to join instantly.)

Join from a video-conferencing room or system.

Dial in or type: 67.217.95.2 or inroomlink.goto.com.

Meeting ID: 307 547 125.

Or dial directly: 307547125@67.217.95.2 or 67.217.95.2##307547125.

FOR FURTHER INFORMATION CONTACT: Liajay Rivera-García, Caribbean Fishery Management Council, 270 Muñoz Rivera Avenue, Suite 401, San Juan, Puerto Rico 00918-1903, telephone: (787) 766-5926.

SUPPLEMENTARY INFORMATION: The following items included in the tentative agenda will be discussed:

May 3, 2023

9 a.m.-10 a.m.

—Roll Call

—Overview FEP Development

—Other Themes for Discussion

10 a.m.-10:10 a.m.

—Break

10:10 a.m.-12 p.m.

—Stakeholder Perceptions of Environmental and Climate Change in the USVI—Tarsila Seara

12 p.m.-1 p.m.

—Lunch Break

1 p.m.-3 p.m.

—Working Group Framework and Content Generation Session—Introduction

3 p.m.-3:15 p.m.

—Break

3:15 p.m.-5 p.m.

—Working Group Framework and Content Generation Session—Ecosystems and Ecosystems Services

May 4, 2023

9 a.m.-10:30 a.m.

—Working Group Framework and Content Generation Session—Ecosystems Indicators

10:30 a.m.-10:45 a.m.

—Break

10:45 a.m.-11:15 a.m.

—Working Group Framework and Content Generation Session—Ecosystem Indicators

11:15 a.m.-12:15 p.m.

—Working Group Framework and Content Generation Session—Use of Indicators in Management

12:15 p.m.-1:15 p.m.

—Lunch

1:15 p.m.-3:15 p.m.

—Working Group Framework and Content Generation Session—Use of Indicators in Management

3:15 p.m.-3:30 p.m.

—Break

3:30 p.m.-5 p.m.

—Working Group Framework and Content Generation Session—Plan Moving Forward

May 5, 2023

9 a.m.-10:30 a.m.

—Working Group Framework and Content Generation Session—Data Management & Coordination System Planning: Grants Available, Hosting Responsibility, Management Authority, etc.

10:30 a.m.-12 p.m.

—Future Planning and Coordination of Tasks:

—Meeting Schedule, Writing & Revisions Schedule, TAP Review

—Outcomes, Products, Deliverables and Deadlines

—Coordination of Working Group Leads and Independent Meeting Capacity and Infrastructure

—Schedule for SSC & TAP Review

—Other Business

12:00 p.m.

—Adjourn

The order of business may be adjusted as necessary to accommodate the completion of agenda items. The meetings will begin on May 3, 2023, at 9 a.m. AST, and will end on May 5, 2023, at 12 p.m. AST. Other than the start time, interested parties should be aware that discussions may start earlier or later than indicated, at the discretion of the Chair.

Special Accommodations

For any additional information you may contact Liajay Rivera-Garcia, Caribbean Fishery Management Council, 270 Muñoz Rivera Avenue, Suite 401, San Juan, Puerto Rico, 00918-1903, telephone: (787) 766-5926.

Authority: 16 U.S.C. 1801 et seq.

Dated: April 12, 2023.
Rey Israel Marquez,
Acting Deputy Director, Office of Sustainable Fisheries, National Marine Fisheries Service.

[FR Doc. 2023-08087 Filed 4-14-23; 8:45 am]

BILLING CODE 3510-22-P